DEPARTMENT OF JUSTICE

Federal Bureau of Investigation

[Docket No. FBI 121]

FBI Criminal Justice Information Services Division User Fees

AGENCY: Federal Bureau of Investigation, Justice.

ACTION: Notice.

SUMMARY: This notice establishes the user fee schedule for fingerprint-based and name-based criminal history record checks performed by the FBI's Criminal Justice Information Services (CJIS) Division.

DATES: Effective Date: May 13, 2010.

FOR FURTHER INFORMATION CONTACT: FBI, CJIS Division, 1000 Custer Hollow Road, Clarksburg, West Virginia 26306. Attention: Christopher L. Enourato, 304-625-2910.

SUPPLEMENTARY INFORMATION: Pursuant to 28 CFR 20.31(e), the FBI may routinely establish and collect fees for noncriminal justice fingerprint-based and other identification services as authorized by federal law. These fees apply to federal, state and any other authorized entities requesting fingerprint identification records and name checks for noncriminal justice purposes. Elsewhere in today's issue of the Federal Register the FBI is publishing the final rule related to this notice codifying in the Code of Federal Regulations the FBI's authority in this area.

(1) The Director of the FBI shall review the amount of the fee periodically, but not less than every four years, to determine the current cost of processing fingerprint identification records and name checks for noncriminal justice purposes.

(2) Fee amounts and any revisions thereto shall be determined by current costs, using a method of analysis consistent with widely accepted accounting principles and practices, and calculated in accordance with the provisions of 31 U.S.C. 9701 and other federal law as applicable.

(3) Fee amounts and any revisions thereto shall be published as a Notice in the Federal Register.

The following fee schedule provides the user fees for fingerprint-based and name-based criminal history record information (CHRI) checks by the CJIS Division.

Fingerprint-Based CHRI Checks
If the Check is a/an* * * | The fee is* * *
Electronic transaction | $19.25
Electronic submission/manual response transaction* * * | $26.00
Manual transaction | $30.25
Volunteer under the VCA transaction* * * | $15.25

Name-Based CHRI Checks
If the Check is a/an* * * | The fee is* * *
Electronic transaction* * * | $2.25
Manual transaction* * * | $6.00

This fee schedule will become effective 30 days following publication of this notice.

Dated: April 6, 2010.
Robert S. Mueller, III,
Director, Federal Bureau of Investigation.

[FR Doc. 2010-8381 Filed 4-12-10; 8:45 am]

BILLING CODE 4410-02-P